DEPARTMENT OF THE INTERIOR

Office of the Secretary

[18XD4523WS, DS61500000, DWSN00000.000000, DP.61501]

National Invasive Species Council; Notice of Public Meeting

AGENCY: Policy and International Affairs, Interior.

ACTION: Notice of public meeting.

SUMMARY: Pursuant to the provisions of the Federal Advisory Committee Act, notice is hereby given of a meeting of the Invasive Species Advisory Committee.

DATES: Teleconference Meeting of the Invasive Species Advisory Committee: Thursday, July 19, 2018; 1:00-3:00 p.m. (EDT).

ADDRESSES: U.S. Department of the Interior, Stuart Udall Building (MIB), 1849 C Street NW, Rachel Carson Room (basement level), Washington, DC 20240.

FOR FURTHER INFORMATION CONTACT: Kelsey Brantley, Coordinator for NISC and ISAC Operations, National Invasive Species Council Secretariat, (202) 208-4122; Fax: (202) 208-4118, email: kelsey_brantley@ios.doi.gov.

SUPPLEMENTARY INFORMATION: The purpose of the Advisory Committee (ISAC) is to provide advice to the National Invasive Species Council (NISC), as authorized by Executive Orders 13112 and 13751, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues. The purpose of a meeting on Thursday, July 19, 2018 via teleconference, in lieu of physical travel, is to convene the full ISAC to enable NISC leadership and ISAC membership to discuss the recommendations arising from the ISAC annual meeting held February 27-March 1, 2018 in Washington, DC. Members of the public are welcome to participate by accessing the teleconference. The toll-free conference phone number and access code can be obtained through online registration at https://goo.gl/forms/iitamLBaFYuvdeYB2. Alternatively, members of the public can listen to the teleconference in person at the U.S. Department of the Interior Stuart Udall Building in Washington, DC (see ADDRESSES section above). All visiting members of the public must be cleared through building security prior to being escorted to the meeting room. Note: Other than during the public comment period, public participation is in an observer capacity. The maximum capacity of the teleconference is 100 participants. For record keeping purposes, participants will be required to provide their name and contact information to the operator before being connected.

Authority: 5 U.S.C. Appendix 2.

Jamie K. Reaser,
Executive Director, National Invasive Species Council.

[FR Doc. 2018-12608 Filed 6-11-18; 8:45 am]

BILLING CODE 4334-63-P